DEPARTMENT OF JUSTICE

[OMB Number 1121-0365]

Agency Information Collection Activities; Proposed eCollection eComments Requested Extension of a Previously Approved Collection; Death-in-Custody Reporting Act Program Collection

AGENCY: Bureau of Justice Assistance, Office of Justice Programs, Department of Justice

ACTION: 60-day notice.

SUMMARY: The Bureau of Justice Assistance, Department of Justice (DOJ), will be submitting the following information collection request to the Office of Management and Budget (OMB) for review and approval in accordance with the Paperwork Reduction Act of 1995.

DATES: Comments are encouraged and will be accepted for 60 days until July 12, 2024.

FOR FURTHER INFORMATION CONTACT: If you have comments especially on the estimated public burden or associated response time, suggestions, or need a copy of the proposed information collection instrument with instructions or additional information, please contact: James Steyee, Program Analyst (DCRA) at james.d.steyee@usdoj.gov or telephone: 202-880-7420.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: To comply with the mandate of the Death in Custody Reporting Act (Public Law 113-242), BJA is requestion an extension of its DCRA data collection form (which has been in place since the beginning of FY 2020 and requires states to report certain information about each reportable death in their state to the BJA. The DCRA Program requires State Administering Agencies (SAA) to collect and submit information regarding the death of any person who is detained, under arrest, or is in the process of being arrested, is en route to be incarcerated, or is incarcerated at a municipal or county jail, State prison, State-run boot camp prison, boot camp prison that is contracted out by the State, any State or local contract facility, or other local or State correctional facility (including any juvenile facility) (PL 113-242).

For purposes of this notice, the term “reportable death” means any death that the DCRA Program or the Department's guidelines require States to report. Generally, these are deaths that occurred during interactions with law enforcement personnel or while the decedent was in their custody or in the custody, under the supervision, or under the jurisdiction of a State or local law enforcement or correctional agency, such as a jail or prison and further defined in BJA's DCRA Reporting Guidance and FAQ as well as its DCRA Compliance Guidelines.

The DCRA requires states to submit all known reportable deaths on a quarterly basis using an online data collection form in the Performance Measurement Tool (PMT). States may back-report deaths not previously known to them as well as correct and revising records with missing or unknown information each quarter.

Overview of This Information Collection

Type of Information Collection: Extension of a previously approved collection.

1. The Title of the Form/Collection: Death in Custody Reporting Act Program Collection.

2. Form number: DCR-1 and DCR-1A.

DCR-1 (Quarterly Summary). This summary form requires States to either (1) identify all known reportable deaths that occurred in their jurisdiction during the corresponding quarter, or (2) affirm that no reportable deaths occurred in the State during the reporting period.

For each quarter in a fiscal year, a State must complete the Quarterly Summary (Form DCR-1) and submit it by the reporting deadline. The Quarterly Summary an accounting of all reportable deaths that occurred in the State during the corresponding quarter. If a State did not have a reportable death during the quarter, the State must so indicate on the Quarterly Summary. The reporting deadline to submit the Quarterly Summary is the last day of the month following the close of the quarter. For each quarter, BJA will send two reminders prior to the reporting deadline. Example. The second quarter of a fiscal year is January 1-March 31. The deadline to submit the second quarter Quarterly Summary (DCR-1) is April 30. BJA will send a reminder to States on or around March 31 and April 15.

DCR-1A (Incident Report). This incident report form requires States to provide additional information for each reportable death identified in the Quarterly Summary that occurred during interactions with law enforcement personnel or while in their custody. For each reportable death identified in the Quarterly Summary, a State must complete and submit by the same reporting deadline an Incident Report (Form DCR-1A), which contains specific information on the circumstances of the death and additional characteristics of the decedent. These include:

• The decedent's name, year of birth, gender, race, and ethnicity.

• The date of facility admission/arrest

• Date of death and time of death

• Location of the death including location name and address and facility type

• Name of the department or agency that detained, arrested, or was in the process of arresting the deceased

• Manner of death (or if unavailable due to and ongoing investigation, the name of the agency conducting the investigation)

• Description of the circumstances leading to the death.

States must answer all questions on the Incident Report before they can submit the form. If the State does not have sufficient information to complete one of the questions, then the State may select the “unknown” answer, if available, and then identify when the information is anticipated to be obtained.

3. Component: Bureau Justice Assistance, U.S. Department of Justice.

4. Affected public who will be asked or required to respond, as well as the obligation to respond: State (Primary) and Local Agencies (secondary). The obligation to respond is mandatory to comply with the DCRA (PL 113-242).

5. Total Estimated Number of Respondents: For purposes of this collection, the term “State” includes any State of the United States, the District of Columbia, the Commonwealth of Puerto Rico, the Virgin Islands, American Samoa, Guam, and the Northern Mariana Islands. Thus, the affected public that will be asked to respond on a quarterly basis each federal fiscal year includes the State Administering Agencies in each of the 56 States and Territories. These SAAs will be requesting information from approximately 19,450 state and local law enforcement agencies (LEAs), 56 state and territorial departments of corrections, and about 2,800 local adult jail jurisdictions. Not all jurisdictions will be required to report a death every quarter dependent upon whether they experience any reportable deaths.

6. Estimated Time per Respondent: For purposes of this burden calculation, it is estimated that for each fiscal year there will be a total of 1,481 reportable deaths by 950 LEAs, 919 reportable deaths by about 335 jails, and 3,360 reportable deaths by nearly 540 prisons.

For FY 2024 and beyond, the total projected respondent burden is:

States estimated time to complete DCR-1 each quarter: 4 hrs. * 4 quarters * 56 state = 896 hours.

State estimated time to review and submit DCR-1A each quarter for each death: .25 hrs. * 7500 estimated deaths per year = 1875 hours

LEAs estimated time to complete DCR-1A on behalf of state: 950 estimated LEA * 4 quarters * .75 hours = 2850 hours.

Jails estimated time to complete DCR-1A on behalf of state: 335 estimated jails * 4 quarters * .75 hours = 1005 hours.

Prison estimated time to complete DCRA-1A on behalf of state: 540 estimated prisons * 4 quarters * .75 hours = 1620 hours.

7. Frequency: Quarterly.

8. Total Estimated Annual Time Burden: 8246 hours.

9. Total Estimated Annual Other Costs Burden: $294,134 ($35.67/hour * 8246 hours).

If additional information is required contact: Darwin Arceo, Department Clearance Officer, United States Department of Justice, Justice Management Division, Policy and Planning Staff, Two Constitution Square, 145 N Street NE, 4W-218, Washington, DC.

Dated: May 7, 2024.
Darwin Arceo,
Department Clearance Officer for PRA, U.S. Department of Justice.

[FR Doc. 2024-10278 Filed 5-10-24; 8:45 am]

BILLING CODE 4410-FY-P